DEPARTMENT OF HEALTH AND HUMAN SERVICES

45 CFR Parts 1301, 1302, 1303, 1304, and 1305

[Docket No. HHS_FRDOC_0001-0957]

RIN 0970-AD01

Supporting the Head Start Workforce and Consistent Quality Programming; Announcement and Correction

AGENCY: Office of Head Start, Administration for Children and Families, U.S. Department of Health and Human Services.

ACTION: Final rule; announcement and correcting amendment.

SUMMARY: The Department of Health and Human Services is correcting a final rule that appeared in the Federal Register on August 21, 2024. The effective date of that final rule was listed in the preamble as the date of publication, August 21, 2024, when it should have had the required 60-day delay to comply with the Congressional Review Act. The effective date should have been October 21, 2024. Additionally, the final rule inadvertently included an incorrect citation in the requirements for family partnership services, and failed to include the compliance date for the requirements for staff benefits (August 1, 2028) in the regulatory text.

DATES: The corrections in this document are effective October 31, 2024.

FOR FURTHER INFORMATION CONTACT: Jessica Bialecki, Office of Head Start, 202-240-3901 or Jessica.Bialecki@acf.hhs.gov.

SUPPLEMENTARY INFORMATION: On August 21, 2024, HHS published a final rule amending 45 CFR parts 1301, 1302, 1303, 1304, and 1305. We incorrectly established the effective date as August 21, 2024. The intention was for the rule to become effective on October 21, 2024. The earliest compliance date was correctly identified as October 21, 2024, in the final rule.

List of Subjects in 45 CFR Part 1302

Compensation, Early education, Grant programs, Head Start, Mental health, Quality improvement, Social programs, Workforce.

For reasons stated in the preamble, ACF corrects 45 CFR part 1302 by making the following correcting amendments:

PART 1302—PROGRAM OPERATIONS

1. The authority citation for part 1302 continues to read as follows:

Authority: 42 U.S.C. 9801 et seq.

2. Amend § 1302.52 by revising paragraph (d)(2)(i) to read as follows:

§ 1302.52 Family partnership services.

* * * * *

(i) When the responsible HHS official grants a waiver if the program can demonstrate staff competencies at § 1302.92(b)(5); program outcomes at paragraph (b) of this section; and reasonable staff workload as described in paragraph (d)(3) of this section.

3. Amend § 1302.90 by revising paragraphs (f)(1) through (4) to read as follows:

§ 1302.90 Personnel policies.

* * * * *

(f) Staff benefits. (1) By August 1, 2028, for each full-time staff member, defined as those working 30 or more hours per week with the Head Start program during the program year, a program must:

(i) Provide or facilitate access to high- quality affordable health care coverage;

(ii) Offer paid leave; and,

(iii) Offer access to short-term, free, or minimal cost behavioral health services.

(2) By August 1, 2028, for each part-time staff member, a program must facilitate access to high- quality, affordable health care coverage.

(3) By August 1, 2028, for each staff member, a program must facilitate access to available resources and information on child care, including connections to child care resource and referral agencies or other child care consumer education organizations and, for staff who meet eligibility guidelines, facilitate access to the child care subsidy program.

(4) By August 1, 2028, for each staff member who may be eligible, a program must facilitate access to the Public Service Loan Forgiveness (PSLF) program, or other applicable student loan debt relief programs, including timely certification of employment.

* * * * *

Elizabeth J. Gramling,
Executive Secretary, Department of Health and Human Services.

[FR Doc. 2024-23032 Filed 10-30-24; 8:45 am]

BILLING CODE P